DEPARTMENT OF COMMERCE

National Oceanic and Atmospheric Administration

50 CFR Part 660

[I.D. 012301A]

Western Pacific Fishery Management Council; Public Meetings and Hearing

AGENCY: National Marine Fisheries Service (NMFS), National Oceanic and Atmospheric Administration (NOAA), Commerce.

ACTION: Notice of public meeting/public hearing.

SUMMARY: The Western Pacific Fishery Management Council (Council) will hold its 108th meeting February 12 through February 15, 2001, in Honolulu, HI.

DATES: The Council’s Standing Committees will meet on February 12, 2001, from 7:30 a.m. to 5:30 p.m. The full Council meeting will be held on February 13, 2001, from 9 a.m. to 5 p.m. and February 14 and 15, 2001, from 8:30 a.m. to 5 p.m. A public hearing will be held on February 13, 2001, at 4 p.m. on a framework amendment to extend the Northwestern Hawaiian Islands (NWHI) lobster fishery closure. See SUPPLEMENTARY INFORMATION for specific dates and times for these meetings and the hearing.

ADDRESSES: The Council meeting, Standing Committee meetings, and public hearing will be held at the Ala Moana Hotel, 410 Atkinson Drive, Honolulu, HI; telephone: 808-955-4811.

FOR FURTHER INFORMATION CONTACT: Kitty M. Simonds, Executive Director; telephone: 808-522-8220.

SUPPLEMENTARY INFORMATION:

Dates and Times

Committee Meetings

The following Standing Committees of the Council will meet on February 12, 2001. Enforcement/Vessel Monitoring System (VMS) from 7:30 a.m. to 9:30 a.m.; International Fisheries/Pelagics from 9:30 a.m. to 11:30 a.m.; Executive/Budget and Program from 11:30 a.m. to 1:30 p.m.; Precious Corals from 1:30 p.m. to 3 p.m.; Crustaceans from 1:30 p.m. to 3 p.m.; Bottomfish from 3 p.m. to 4:30 p.m; Ecosystem and Habitat from 3 p.m. to 4:30 p.m.; and Fishery Rights of Indigenous People from 4:30 p.m. to 5:30 p.m.

Public Hearing

A public hearing will be held on February 13, 2000, at 4 p.m. on a framework amendment to extend the NWHI lobster fishery closure.

The agenda during the full Council meeting will include the items listed below. In addition, the Council will hear recommendations from its advisory panels, plan teams, scientific and statistical committee, and other ad hoc groups. Public comment periods will be provided throughout the agenda. The order in which agenda items are addressed may change. The Council will meet as late as necessary to complete scheduled business.

Agenda

1. Introductions

2. Approval of Agenda

3. Approval of 107th Meeting Minutes

4. Island Reports

A. American Samoa

B. Guam

C. Hawaii

D. Commonwealth of the Northern Mariana Islands (CNMI)

5. Federal Fishery Agency and Organization Reports

A. Department of Commerce

(1) NMFS

(a) Southwest Region, Pacific Island Area Office

(b) Southwest Fisheries Science Center, La Jolla and Honolulu Laboratories

(2) NOAA General Counsel, Southwest Region

B. Department of the Interior

(1) U.S. Fish and Wildlife Service (USFWS)

C. U.S. State Department

6. Enforcement

A. U.S. Coast Guard activities

B. NMFS activities

C. Commonwealth, Territories, and State activities

D. Report on State/NMFS/USCG meeting

E. Cooperative agreements for Guam/CNMI

F. Status of violations

7. VMS

A. Hawaii VMS report

B. Report on national VMS efforts

C. Assessment of VMS needs in American Samoa, Guam, CNMI

8. Precious Corals

A. Status of 1999 framework amendment regarding new harvesting requirements

B. Status of 2000 framework adjustment regarding Hawaiian Islands exploratory area quota increase

C. Precious Coral draft environmental impact statement (EIS)

9. Bottomfish Fisheries

A. Status of the stocks

B. Status of the fishery: litigation, Biological Opinion (BO), observers

C. Status of DEIS

10. Crustacean Fisheries

A. Framework measure for closure of the fishery

B. Status of spring research tagging charter

C. Status of plans for 5-year review/technical review panel

D. Status of DEIS

E. Public hearing on a framework amendment to extend the NWHI lobster fishery closure.

In early 2000, while developing the estimate of the annual exploitable lobster population and harvest guideline for the NWHI commercial lobster fishery, NMFS’ scientists noted increasing uncertainty in model parameter estimates, as well as problems with the model assumptions, and concluded that the estimates may be inaccurate and should be used cautiously.

The underlying concern with these population estimates revolves around the use of mixed species and spatially disaggregated data (i.e., under bank-specific harvest guidelines first implemented in 1998) in an algorithm designed to estimate aggregated, single species populations.

Specific concerns surround the validity of the following assumptions of the model: that homogeneous population dynamics exist between banks; that there is constant recruitment throughout the NWHI; that the model’s catchability estimates are correct; that natural mortality is constant irrespective of species, age, or sex; and that commercial catch per unit of effort (CPUE) is a reliable index of lobster abundance in the NWHI. Based on new information from research surveys, tagging data, and recent advances in NMFS’ understanding, these assumptions have been increasingly called into question. Declining commercial CPUE in recent years suggests that lobster populations are not rebuilding. Based on the above problems, including reductions in both catches and catch rates, NMFS closed the NWHI commercial lobster fishery for the 2000 lobster season as a precautionary measure. NMFS scientists are continuing work to refine the model used to estimate exploitable populations, as well as to gather fishery independent data that can be used to reassess the model’s assumptions and parameters. A charter tagging cruise is tentatively planned for the spring and a research cruise for the summer (if funding is available). Last year’s emergency closure of the fishery was authorized under section 305(c) of the Magnuson-Stevens Fishery Conservation and Management Act (Magnuson-Stevens Act) based on recent data suggesting low recruitment in the fishery.

11. Pelagic Fisheries

A. Fourth quarter 2000 Hawaii and American Samoa longline fishery report

B. Turtle management

(1) Pelagic DEIS: preferred alternative

(2) BO, recommended measures

C. Shark management: Amendment 9 blue shark quota following state and Federal finning bans.

In July 2000, the Council sent NMFS Amendment 9 to its Fishery Management Plan for the Pelagics Fisheries of the Western Pacific Region (Pelagics FMP). Among the measures contained in the amendment was a 50,000 blue shark annual harvest guideline that was based on the average number of blue sharks caught and retained for finning, i.e., removing the fins from sharks and discarding the remainder of the carcasses at sea.

However, a new Federal law was enacted in December, 2000, (the Shark Finning Prohibition Act), that amended the Magnuson-Stevens Act and banned the landing of shark fins without the accompanying shark carcasses throughout the United States. Consequently, the Council will revisit the provisions of Amendment 9 since the basis of the 50,000 harvest guideline for blue sharks is no longer relevant and, in its present form, the amendment would only be partially approved by NMFS. The Council will review the amendment and consider several options, including a no-harvest guideline for blue sharks, maintaining the present 50,000 blue shark harvest guideline with a requirement specifying that carcasses must be landed with fins, or a new harvest guideline based on a potential directed fishery for blue sharks.

D. Seabird management: USFWS BO regarding interactions with the Hawaii-based pelagic longline fishery

E. Proposed Kingman Reef wildlife refuge: environmental assessment

F. Hawaii offshore handline fishery and gear conflicts at Cross seamount

G. Exclusion of purse-seine vessels from American Samoa 50 nautical mile (nm) closed area proposal

In October 2000, the Council sent NMFS an FMP framework measure to its Pelagics FMP, that would establish a 50 nautical mile closed area around all the islands of American Samoa, in which U.S. pelagic fishing vessels > 50 ft (15.24 m) in overall length would be prohibited from fishing. This would include large longline, purse seine, and trolling vessels. This measure, requested by American Samoa fishermen, is intended to protect the expanding small-scale artisanal longline fishery based on small 30-40 ft (9.1-12.2 m) outboard-powered catamarans. At the 107th Council Meeting in November 2000, the American Samoa Council members expressed the American Samoa government’s desire that purse seine vessels be exempted from the terms of this management measure. The Council voted at the 107th meeting to discuss this exemption at the next Council meeting. The Council will review the framework measure and the options for exemption of purse seiners from the provisions of the 50 nm closed area.

H. Re-categorization of Hawaii longline fishery under the Marine Mammal Protection Act

12. Ecosystems and Habitat

A. Draft Coral Reef Ecosystems Fishery Management Plan and Draft EIS

(1) Aspects for further discussion

(2) Review of (initial) public and agency comments

B. Impacts of Executive Order 13178 on NWHI fisheries: Fishery disaster relief

13. Fishery Rights of Indigenous People

A. Eligibility criteria for Community Development Program bottomfish Mau zone permit

B. Eligibility criteria for Community Demonstration Projects

C. Local observer program update

D. Hawaiian green sea turtle cultural and religious uses

E. Status of Marine Conservation Plans

14. Program Planning

A. Reauthorization of Magnuson-Stevens Act, ESA, and Antiquities Act

B. Status of marine debris initiative

C. Palmyra Atoll

(1) Establishment of National Wildlife Refuge

(2) Fisheries management and development

D. Fishing activities, support operations at Midway Atoll National Wildlife Refuge

E. Report on program planning activities

F. Western Pacific Fisheries Information Network/Fisheries Data Coordinating Committee

15. Administrative Matters

A. Administrative reports

B. Upcoming meetings and workshops including the 109th Council meeting

C. Advisory group member changes

16. Other Business

Although non-emergency issues not contained in this agenda may come before the Council for discussion, those issues may not be the subject of formal Council action during this meeting. Council action will be restricted to those issues specifically listed in this document and any issue arising after publication of this document that requires emergency action under section 305(c) of the Magnuson-Stevens Act, provided the public has been notified of the Council’s intent to take final action to address the emergency.

Special Accommodations

This meeting is physically accessible to people with disabilities. Requests for sign language interpretation or other auxiliary aids should be directed to Kitty M. Simonds, 808-522-8220 (voice) or 808-522-8226 (fax), at least 5 days prior to the meeting date.

Authority: 1801 et seq.

Dated: February 1, 2001.
Bruce C. Morehead,
Acting Director, Office of Sustainable Fisheries, National Marine Fisheries Service.

[FR Doc. 01-3098 Filed 2-6-01; 8:45 am]

BILLING CODE 3510-22-S